DEPARTMENT OF TRANSPORTATION

Federal Motor Carrier Safety Administration

[Docket No. FMCSA-2006-26367]

Medical Review Board (MRB) Meeting: Public Meeting

AGENCY: Federal Motor Carrier Safety Administration (FMCSA), DOT.

ACTION: Announcement of advisory committee public meeting.

SUMMARY: FMCSA announces a meeting of its Medical Review Board (MRB) on Tuesday and Wednesday, July 21-22, 2015. The MRB will identify factors the Agency should consider with regard to regulatory actions concerning Type I diabetes and vision standards for interstate commercial motor vehicle (CMV) drivers. This follows the Agency's issuance of a Notice of Proposed Rulemaking (NPRM) on May 4, 2015, that would permit drivers with stable, well-controlled insulin-treated diabetes mellitus (ITDM) to be qualified to operate CMVs in interstate commerce. The MRB discussions would precede the Agency's consideration of a rulemaking concerning the vision standard. Meetings are open to the public for their entirety, and the public will be allowed to comment during the proceedings.

DATES: The meeting will be held on Tuesday and Wednesday, July 21-22, 2015, from 9 a.m. to 4:30 p.m., Eastern Daylight Time (E.T.), at the FMCSA National Training Center, 1310 N. Courthouse Road, Arlington, VA. Copies of the task statement and an agenda for the entire meeting will be made available in advance of the meeting at http://mrb.fmcsa.dot.gov.

FOR FURTHER INFORMATION CONTACT: Ms. Shannon L. Watson, Senior Advisor to the Associate Administrator for Policy, Federal Motor Carrier Safety Administration, U.S. Department of Transportation, 1200 New Jersey Avenue SE., Washington, DC 20590, (202) 366-5221, mrb@dot.gov.

Services for Individuals With Disabilities

For information on facilities or services for individuals with disabilities or to request special assistance at the meeting, contact Eran Segev at (617) 494-3174, eran.segev@dot.gov, by Wednesday, July 15.

SUPPLEMENTARY INFORMATION:

I. Background

The MRB is composed of five medical experts who each serve 2-year terms. Section 4116 of SAFETEA-LU requires the Secretary of Transportation, with the advice of the MRB and the chief medical examiner, to establish, review, and revise “medical standards for operators of commercial motor vehicles that will ensure that the physical condition of operators of commercial motor vehicles is adequate to enable them to operate the vehicles safely.” The MRB operates in accordance with FACA under the terms of its charter, filed November 25, 2013.

II. Meeting Participation

Oral comments from the public will be heard during the meeting, subject to the discretion of the Chairman. Members of the public may submit written comments on the topics to be considered during the meeting by Wednesday, July 15, to Federal Docket Management System (FDMC) Docket Number FMCSA-2008-0362 for the MRB using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE., Room W12-140, Washington, DC, between 9 a.m. and 5 p.m., E.T. Monday through Friday, except Federal holidays.

Issued on: June 29, 2015.
Larry W. Minor,
Associate Administrator for Policy.

[FR Doc. 2015-16393 Filed 7-1-15; 8:45 am]

BILLING CODE 4910-EX-P